NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on March 6-8, 2008, 11545 Rockville Pike, Rockville, Maryland. The date of this meeting was previously published in the Federal Register on Monday, October 22, 2007 (72 FR 59574).

Thursday, March 6, 2008, Conference Room T-2B3, Two White Flint North, Rockville, Maryland.

8:30 a.m.-8:35 a.m.: Opening Remarks by the ACRS Chairman (Open)—The ACRS Chairman will make opening remarks regarding the conduct of the meeting.

8:35 a.m.-10:30 a.m.: Final Review of the License Renewal Application for the James A. FitzPatrick Nuclear Power Plant (Open)—The Committee will hear presentations by and hold discussions with representatives of the NRC staff and Entergy Nuclear Operations, Inc., regarding the License Renewal Application for the James A. FitzPatrick Nuclear Power Plant and the associated NRC staff's Final Safety Evaluation Report (SER).

10:45 a.m.-12:15 p.m.: Final Review of the License Renewal Application for the Vermont Yankee Nuclear Power Station (Open)—The Committee will hear presentations by and hold discussions with representatives of the NRC staff and Entergy Nuclear Operations, Inc., regarding the License Renewal Application for the Vermont Yankee Nuclear Power Station and the associated NRC staff's Final SER, specifically, resolution of the environmentally assisted fatigue issue, and other related matters.

1:15 p.m.-3:15 p.m.: Selected Chapters of the SER Associated with the ESBWR Design Certification Application (Open/Closed)—The Committee will hear presentations by and hold discussions with representatives of the NRC staff and General Electric—Hitachi Nuclear Energy (GEH) regarding selected chapters of the SER with open items associated with the ESBWR design certification application.

[Note: A portion of this session may be closed to protect information that is proprietary to GEH and its contractors pursuant to 5 U.S.C. 552b(c)(4).]

3:30 p.m.-3:45 p.m.: Subcommittee Report (Open)—Report by and discussions with the Chairman of the ACRS regarding interim review of the License Renewal Application for the Wolf Creek Generating Station discussed during the Subcommittee meeting on March 5, 2008.

3:45 p.m.-7 p.m.: Preparation of ACRS Reports (Open)—The Committee will discuss proposed ACRS reports on matters considered during this meeting.

Friday, March 7, 2008, Conference Room T-2B3, Two White Flint North, Rockville, Maryland.

8:30 a.m.-8:35 a.m.: Opening Remarks by the ACRS Chairman (Open)—The ACRS Chairman will make opening remarks regarding the conduct of the meeting.

8:35 a.m.-9:30 a.m.: Meeting with Commissioner Lyons (Open)—The Chairman will hold discussions with NRC Commissioner Lyons regarding items of mutual interest.

9:30 a.m.-10:15 a.m.: Future ACRS Activities/Report of the Planning and Procedures Subcommittee (Open)—Discussion of the recommendations of the Planning and Procedures Subcommittee regarding items proposed for consideration by the full Committee during future ACRS meetings as well as discussion of matters related to the conduct of ACRS business, including anticipated workload and member assignments.

10:15 a.m.-11:15 a.m.: Reconciliation of ACRS Comments and Recommendations (Open)—The Committee will discuss proposed ACRS reports on matters considered during this meeting.

11:30 a.m.-12:30 p.m.: Preparation of ACRS Reports (Open)—The Committee will discuss proposed ACRS reports on matters considered during this meeting.

1:30 p.m.-7 p.m.: Preparation of ACRS Reports (Open)—The Committee will discuss proposed ACRS reports on matters considered during this meeting.

Saturday, March 8, 2008, Conference Room T-2B3, Two White Flint North, Rockville, Maryland.

8:30 a.m.-1 p.m.: Anticipated Future Committee Schedule and Workload (Open)—The Committee will discuss anticipated future ACRS schedule and workload.

1 p.m.-1:30 p.m.: Miscellaneous (Open)—Discussion of matters related to the conduct of Committee matters that were not completed during previous meetings, as time and availability of information permit.

Procedures for the conduct of and participation in ACRS meetings were published in the Federal Register on September 26, 2007 (72 FR 54695). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

In accordance with Subsection 10(d) Public Law 92-463, I have determined that it may be necessary to close a portion of this meeting noted above to discuss and protect information classified as proprietary to General Electric—Hitachi Nuclear Energy and their contractors.

Further information regarding topics to be discussed, whether the meeting has been canceled or rescheduled, as well as the Chairman's ruling on requests for the opportunity to present oral statements and the time allotted therefor can be obtained by contacting Mr. Girija S. Shukla, Cognizant ACRS staff (301-415-6855), between 7:30 a.m. and 4 p.m. (ET). ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Video teleconferencing service is available for observing open sessions of ACRS meetings. Those wishing to use this service for observing ACRS meetings should contact Mr. Theron Brown, ACRS Audio Visual Technician (301-415-8066), between 7:30 a.m. and 3:45 p.m. (ET), at least 10 days before the meeting to ensure the availability of this service. Individuals or organizations requesting this service will be responsible for telephone line charges and for providing the equipment and facilities that they use to establish the video teleconferencing link. The availability of video teleconferencing services is not guaranteed.

Dated: February 15, 2008.
Annette L. Vietti-Cook,
Secretary of the Commission.

[FR Doc. E8-3335 Filed 2-21-08; 8:45 am]

BILLING CODE 7590-01-P